COMMISSION ON CIVIL RIGHTS

Agenda and Notice of Public Meeting of the Rhode Island Advisory Committee

AGENCY: Commission on Civil Rights.

ACTION: Announcement of public meeting.

SUMMARY: Notice is hereby given, pursuant to the provisions of the rules and regulations of the U.S. Commission on Civil Rights (Commission), and the Federal Advisory Committee Act (FACA), that the Rhode Island State Advisory Committee to the Commission will convene meetings on February 10, 2021 and March 10, 2021 at 12:00 p.m. (ET). The purpose of the meetings is to discuss the Committee's report on licensing for formerly incarcerated individuals in Rhode Island, and potentially consider new topics if time allows.

DATES: Wednesday, February 10, 2021 and Wednesday, March 10, 2021 at 12:00 p.m. (ET).

Public Web Conference Link (video and audio): Link: https://tinyurl.com/yclg2fd9; Password: USCCR.

Phone Only: Dial 1-800-360-9505; Access code: 199 344 3090.

FOR FURTHER INFORMATION CONTACT: Mallory Trachtenberg at mtrachtenberg@usccr.gov or by phone at (202) 809-9618.

SUPPLEMENTARY INFORMATION: The meeting is available to the public through the web link above. If joining only via phone, callers can expect to incur charges for calls they initiate over wireless lines, and the Commission will not refund any incurred charges. Individuals who are deaf, deafblind and hard of hearing. Individuals may also follow the proceedings by first calling the Federal Relay Service at 1-800-877-8339 and providing the Service with conference details found through registering at the web link above. To request additional accommodations, please email mtrachtenberg@usccr.gov at least 7 days prior to the meeting.

Members of the public are entitled to make comments during the open period at the end of the meeting. Members of the public may also submit written comments; the comments must be received in the Regional Programs Unit within 30 days following the meeting. Written comments may be emailed to Mallory Trachtenberg at mtrachtenberg@usccr.gov. Persons who desire additional information may contact the Regional Programs Unit at (202) 809-9618. Records and documents discussed during the meeting will be available for public viewing as they become available at www.facadatabase.gov. Persons interested in the work of this advisory committee are advised to go to the Commission's website, www.usccr.gov, or to contact the Regional Programs Unit at the above phone number or email address.

Agenda

Wednesday, February 10, 2021 and March 10, 2021 From 12:00-1:00 p.m. (ET)

I. Welcome and Roll Call

II. Announcements and Updates

III. Approval of Minutes

IV. Draft Report Discussion

V. Potential Topic Discussion, as time allows

VI. Public Comment

VII. Next Steps

VIII. Adjournment

Dated: January 13, 2021.
David Mussatt,
Supervisory Chief, Regional Programs Unit.

[FR Doc. 2021-01151 Filed 1-19-21; 8:45 am]

BILLING CODE P